DEPARTMENT OF COMMERCE

International Trade Administration

[A-821-811]

Preliminary Results of Five-year Sunset Review of Suspended Antidumping Duty Investigation on Ammonium Nitrate from the Russian Federation

AGENCY: Import Administration, International Trade Administration, Department of Commerce.

ACTION: Notice of preliminary results of full sunset review: ammonium nitrate from the Russian Federation.

SUMMARY: On April 1, 2005, the Department of Commerce (“the Department”) initiated a sunset review of the suspended antidumping duty investigation on ammonium nitrate from the Russian Federation (“Russia”) pursuant to section 751(c) of the Tariff Act of 1930, as amended (“the Act”). See Notice of Initiation of Five-year (“Sunset”) Reviews, 70 FR 16800, (April 1, 2005) (“Initiation Notice”). On the basis of notices of intent to participate filed on behalf of domestic interested parties and adequate substantive comments filed on behalf of domestic and respondent interested parties, the Department is conducting a full (240-day) review. As a result of this review, the Department preliminarily finds that termination of the suspended antidumping duty investigation on ammonium nitrate from Russia would likely lead to continuation or recurrence of dumping at the levels indicated in the Preliminary Results of Review section of this notice.

EFFECTIVE DATE: October 24, 2005.

FOR FURTHER INFORMATION CONTACT: Sally Gannon or Aishe Allen, Import Administration, International Trade Administration, U.S. Department of Commerce, 14th Street and Constitution Avenue, NW., Washington, DC 20230; telephone: (202) 482-0162, or 482-0172, respectively.

SUPPLEMENTARY INFORMATION:

Scope of the Review

The products covered by the sunset review of the suspended antidumping duty investigation on ammonium nitrate from Russia include solid, fertilizer grade ammonium nitrate products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this investigation is classified in the Harmonized Tariff Schedule of the United States (“HTSUS”) at subheading 3102.30.00.00. Although the HTSUS subheadings are provided for convenience and customs purposes, the written description of the merchandise within the scope of this sunset review is dispositive.

History of the Suspension Agreement

On August 12, 1999, the Department initiated an antidumping duty investigation under section 732 of the Act on ammonium nitrate from Russia. See Initiation of Antidumping Duty Investigation: Solid Fertilizer Grade Ammonium Nitrate From the Russian Federation, 64 FR 45236 (August 19, 1999). On January 7, 2000, the Department preliminarily determined that ammonium nitrate from Russia is being, or is likely to be, sold in the United States at less than fair value. See Notice of Preliminary Determination of Sales at Less Than Fair Value: Solid Fertilizer Grade Ammonium Nitrate From the Russian Federation, 65 FR 1139 (January 7, 2000).

The Department suspended the antidumping duty investigation on ammonium nitrate from Russia effective May 19, 2000. The basis for this action was an agreement between the Department and the Ministry of Trade of the Russian Federation (“MOT”) accounting for substantially all imports of ammonium nitrate from Russia, wherein the MOT has agreed to restrict exports of ammonium nitrate from all Russian producers/exporters to the United States and to ensure that such exports are sold at or above the agreed reference price. See Suspension of Antidumping Duty Investigation: Solid Fertilizer Grade Ammonium Nitrate From the Russian Federation, 65 FR 37759, (June 16, 2000) (“Suspension Agreement”). Thereafter, pursuant to a request by the petitioner, the Committee for Fair Ammonium Nitrate Trade (“COFANT”), the Department completed its investigation and published in the Federal Register its final determination of sales at less that fair value. See Notice of Final Determination of Sales at Less Than Fair Value; Solid Fertilizer Grade Ammonium Nitrate From the Russian Federation, 65 FR 42669, (July 11, 2000) (“Final Determination”). In the Final Determination, the Department calculated weighted-average dumping margins of 253.98 percent for Nevinnomyssky Azot, a respondent company in the investigation, and for the Russia-wide entity. The Suspension Agreement remains in effect for all manufacturers, producers, and exporters of ammonium nitrate from Russia.

Background

On April 1, 2005, the Department initiated a sunset review of the suspended antidumping duty investigation on ammonium nitrate from Russia, pursuant to section 751(c) of the Act. See Notice of Initiation of Five-year (“Sunset”) Reviews, 70 FR 16800 (April 1, 2005). The Department received Notices of Intent to Participate on behalf of COFANT and Agrium US Inc (“Agrium”), domestic interested parties in this proceeding, within the applicable deadline specified in section 351.218(d)(1)(i) of the Department's Regulations. See Agrium's April 14, 2005, and COFANT's April 18, 2005, submissions to the Department. The domestic interested parties claimed interested-party status under section 771(9)(C) of the Act. Id. In addition, the domestic interested parties assert that they are not related to a foreign producer/exporter and are not importers, or related to importers, of the subject merchandise. Id.

The Department received complete substantive responses from the domestic interested parties within the 30-day deadline specified in the Department's regulations under section 351.218(d)(3)(i). See Agrium's April 29, 2005, and COFANT's May 2, 2005, substantive responses. Also, on May 2, 2005, the Department received a partial substantive response from respondent interested parties: MCC EuroChem (“EuroChem”); Novomoskovskiy Azot (“NAK”); Nevinnomyssky Azot; JSC Minudobreniya; JSC Acron; and JSC Dorogobuzh (collectively “Russian respondents”). In their initial response, the Russian respondents requested a one-week extension to submit a complete substantive response. On May 4, 2005, COFANT submitted a letter to the Department objecting to the Russian respondents' extension request. The Department granted the Russian respondents an extension and on May 9, 2005, the Department received a substantive supplemental response from the Russian respondents. COFANT and the Russian respondents filed rebuttal briefs to each other's substantive responses on May 16, 2005. See COFANT's and the Russian respondents' rebuttal responses, dated May 16, 2005. On May 24, 2005, the Department issued a questionnaire to the Russian respondents, requesting additional information on their substantive responses. On June 1, 2005, the Russian respondents submitted this additional information.

In a sunset review, the Department normally will conclude that there is adequate response from respondent interested parties such that it is appropriate to conduct a full sunset review where respondent interested parties who filed complete substantive responses account for more than 50 percent, by volume, of total exports of subject merchandise to the United States. See Section 351.218(e)(1)(ii)(A) of the Department's regulations. After examining the respondent interested parties' total exports of the subject merchandise, the Department determined that the respondent interested parties, who filed complete substantive responses, accounted for the requisite amount of production. See Memorandum from the Sunset Team to Ronald Lorentzen, Acting Director, Office of Policy, “Adequacy Determination: Sunset Review of the Antidumping Duty Suspension Agreement on Ammonium Nitrate from the Russian Federation,” dated May 24, 2005. Because the respondent interested parties submitted an adequate response to the notice of initiation, the Department is conducting a full (240-day) sunset review in accordance with section 751(c)(5)(A) of the Act, and section 351.218(e)(1)(i) of the Department's regulations. On May 24, 2005, the Department notified the International Trade Commission (“ITC”) that it received an adequate response to the notice of initiation from the respondent interested parties and, therefore, is conducting a full (240-day) sunset review. The Department's preliminary results of this review were scheduled for July 20, 2005, and its final results of this review were scheduled for November 28, 2005. On July 19, 2005, the Department decided to extend time limits for its preliminary and final results in the full sunset review of the suspended antidumping duty investigation on ammonium nitrate from Russia because it needed additional time for its analysis. As a result of this extension, the Department is issuing the preliminary results of this sunset review on or about October 18, 2005 and the final results of this sunset review by February 27, 2006.

Analysis of Comments Received

All issues raised by parties to this sunset review are addressed in the Issues and Decision Memorandum for the Suspended Antidumping Duty Investigation on Ammonium Nitrate from the Russian Federation (“Decision Memorandum”) from Ron Lorentzen, Acting Director, Office of Policy, Import Administration, to Joseph A. Spetrini, Acting Assistant Secretary, Import Administration, dated October 17, 2005, which is adopted by this notice. The issues discussed in the Decision Memorandum include the likelihood of continuation or recurrence of dumping and the magnitude of the margins likely to prevail were the suspended antidumping duty investigation to be terminated. Parties may find a complete discussion of all issues raised in this review and the corresponding recommendations in this public memorandum which is on file in the Central Records Unit, room B-099, of the main Department of Commerce building. In addition, a complete version of the Decision Memorandum can be accessed directly on the Web at http://ia.ita.doc.gov/frn, under the heading “October 2005.” The paper copy and electronic version of the Decision Memorandum are identical in content.

Preliminary Results of Review

We preliminarily determine that termination of the suspended antidumping duty investigation on ammonium nitrate from Russia would likely lead to a continuation or recurrence of dumping at the following percentage weighted-average margin:

Exporter/manufacturer | Weighted-average margin (percent)
JSC Azot Nevinnomyssky | 253.98
Russia-Wide | 253.98

Any interested party may request a hearing within 30 days of publication of this notice in accordance with section 351.310(c) of the Department's regulations. Interested parties may submit case briefs no later than December 7, 2005, in accordance with section 351.309(c)(1)(i) of the Department's regulations. Rebuttal briefs, which must be limited to issues raised in the case briefs, may be filed not later than December 12, 2005. Any hearing, if requested, will be held on December 14, 2005, in accordance with section 351.310(d) of the Department's regulations. The Department will issue a notice of final results of this sunset review, which will include the results of its analysis of issues raised in any such comments, no later than February 27, 2006.

This sunset review and notice are in accordance with sections 751(c), 752, and 777(i)(1) of the Act.

Dated: October 17, 2005.
Joseph A. Spetrini,
Acting Assistant Secretary for Import Administration.

[FR Doc. E5-5864 Filed 10-21-05; 8:45 am]

BILLING CODE 3510-DS-S